DEPARTMENT OF HEALTH AND HUMAN SERVICES

Administration for Children and Families

[OMB #: 0970-0427]

Proposed Information Collection Activity; Head Start Program Information Report

AGENCY: Office of Head Start, Administration for Children and Families, U.S. Department of Health and Human Services.

ACTION: Request for public comments.

SUMMARY: The Administration for Children and Families (ACF) Office of Head Start (OHS) is requesting a 3-year extension of the Head Start Program Information Report (PIR), Monthly Enrollment reporting instrument, and Center Locations and Contacts instrument (Office of Management and Budget (OMB) #0970-0427, expiration June 30, 2025). OHS has not made any updates to these instruments.

DATES: Comments due July 7, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: OHS is requesting an extension, without changes, of the Head Start PIR information collection authority. The following instruments are included in this information collection: (1) PIR, (2) Monthly Enrollment, and (3) Center Locations and Contacts. The PIR is used for federal program management purposes including to promote decision-making using data, is a major source of information used to respond to congressional and public inquiries about Head Start programs and is used often by researchers. Monthly enrollment reporting supports oversight activities related to promoting full enrollment of programs. Center locations and contact reporting is used to help parents locate a program in their community. In general, these information collections together create key administrative datasets to support administration of the program. There are no updates to the current OMB-approved PIR.

Respondents: Head Start Grant Recipients.

Annual Burden Estimates
Instrument | Annual number of respondents | Annual number of responses per respondent | Average burden hours per response | Annual burden hours
Head Start PIR | 1,600 | 2.25 | 1 | 3,600
Monthly Enrollment | 1,600 | 27 | 0.05 | 2,160
Center Locations and Contacts | 1,600 | 15 | 0.25 | 6,000

Estimated Total Annual Burden Hours: 11,760.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9801 et seq.

Mary C. Jones,
ACF/OPRE Certifying Officer.

[FR Doc. 2025-07841 Filed 5-5-25; 8:45 am]

BILLING CODE 4184-40-P